INTERNATIONAL BOUNDARY AND WATER COMMISSION, UNITED STATES AND MEXICO

United States Section; Notice of Intent To Prepare a Programmatic Environmental Impact Statement for Its Flood Control Projects Within the Rio Grande and Tijuana River Basins

AGENCY: United States Section, International Boundary and Water Commission, United States and Mexico.

ACTION: Notice of intent to prepare a programmatic environmental impact statement (PEIS).

SUMMARY: This notice advises the public that pursuant to section 102(2)(c) of the National Environmental Policy Act of 1969, as amended, the United States Section, International Boundary and Water Commission (USIBWC) proposes to gather information necessary to analyze and evaluate impacts of management activities for the flood control projects maintained by USIWB along the Rio Grande, from Percha Dam in Doña Ana County, New Mexico, to the Gulf of Mexico; and in the United States portion of the Tijuana River in San Diego County, California. The findings of this evaluation will be documented in a PEIS.

This notice is being provided as required by the Council on Environmental Quality Regulations (40 CFR 1501.7) and the USIBWC's Operating Procedures for Implementing Section 102 of the National Environmental Policy Act of 1969, to obtain suggestions and information from other agencies and the public on the scope of issues to be addressed in the PEIS. Public meetings will be held to obtain community input to ensure all concerns are identified and addressed in the PEIS.

DATES: The USIBWC will conduct five public meetings at the following locations and dates: (1) El Paso, Texas on January 11, 2005, from 6 to 9 p.m. m.s.t. at the El Paso Marriot, 1600 Airway Blvd., El Paso, Texas 79925; (2) Las Cruces, New Mexico on January 12, 2005, from 6 to 9 p.m. m.s.t. at the Holiday Inn, 201 E. University, Las Cruces New Mexico 88005; (3) Presidio, Texas on January 13, 2005, from 6 to 9 p.m. c.s.t. at the Presidio Chamber of Commerce, 202 W. Oreilly Street, Presidio Texas 79845; (4) McAllen Texas on January 19, 2005, from 6 to 9 p.m. c.s.t. at the Four Point Sheraton Hotel, 2721 S. 10th Street, McAllen, Texas 78503; and (5) City of Imperial Beach (San Diego County), California on January 27, 2005, from 6 to 9 p.m. P.s.t., at the Imperial Beach City Hall, 825 Imperial Beach Boulevard, Imperial Beach, California 91932.

Full public participation by interested federal, state, and local agencies, as well as other interested organizations and the general public is encouraged during the scoping process which will end 60 days from the date of this notice. Public comments on the scope of the PEIS, reasonable alternatives that should be considered, anticipated environmental problems, and actions that might be taken to address them are requested.

FOR FURTHER INFORMATION CONTACT: Comments will be accepted for 60 days following the date of this notice by Daniel Borunda, Environmental Protection Specialist, USIBWC, 4171 N. Mesa Street, Suite C-100, El Paso, Texas 79902. Phone: (915) 832-4701, FAX: (915) 832-4167, e-mail: danielborunda@ibwc.state.gov.

SUPPLEMENTARY INFORMATION:

1. Proposed Action

The USIBWC maintains the following four flood control projects along the Rio Grande, in the United States:

A. Canalization Project, extending 106 miles from Percha Diversion Dam in New Mexico to American Diversion Dam in El Paso County, Texas.

B. Rectification Project, extending 86 miles from American Diversion Dam to Fort Quitman, Texas.

C. Presidio-Ojinaga Flood Control Project, approximately 15 miles in length and located along the Rio Grande within the sister cities of Presidio, Texas and Ojinaga, Chihuahua, Mexico,

D. Lower Rio Grande Flood Control Project (LRGFCP), extending 180 miles between the town of Peñitas, Texas, to the Gulf of Mexico.

These projects were constructed with the objectives of providing flood control to urban, suburban, and agricultural areas adjacent to the river; stabilizing the International Boundary between the United States and Mexico (Rectification Project, Presidio-Ojinaga Project, and LRGFCP); and ensuring water deliveries (Canalization Project, Presidio-Ojinaga Project, and LRGFCP). In addition, USIBWC maintains the Tijuana River Flood Control Project, located in the United States portion of the Tijuana River, extending 2.3 miles from the international boundary. This project provides flood protection to areas in the United States.

The proposed federal action that will be evaluated in the PEIS may include activities to ensure adequate flood control and water deliveries per international agreements and treaties, while identifying opportunities for enhancements to the riparian ecosystem and the development of recreational opportunities.

2. Alternatives

The USIBWC, as the lead agency, proposes to collect information necessary for the preparation of a PEIS and to analyze alternatives for the management of the flood control projects to ensure compliance with the projects' mandates (flood protection, water deliveries and/or boundary stabilization) while creating opportunities for habitat restoration and recreation. Management activities to be evaluated may include: (1) Construction activities, such as raising and setting back levees, recreating meanders, and modifying the river channel; (2) maintenance activities such as vegetation control, channel dredging, and erosion control; and (3) other non-structural activities, such as land management and grazing.

The PEIS will identify, describe, and evaluate the existing environmental, cultural, sociological and economical, and recreational resources; describe the flood protection projects; and evaluate the impacts associated with the alternatives under consideration. Significant issues which have been identified to be addressed in the PEIS include, but are not limited to impacts to water resources, water quality, cultural and biological resources, threatened and endangered species, and recreation. Coordination with the United States Fish and Wildlife Service will ensure compliance with the Fish and Wildlife Coordination Act of 1973, as amended. Cultural resources assessments for the project areas will be coordinated by the New Mexico State Historic Preservation Officer, the Texas State Historic Preservation Officer, and the California State Historic Preservation Officer. Other federal and state agencies will be consulted, as required, to ensure compliance with federal and state laws and regulations.

The USIBWC has invited several agencies to participate as cooperating agencies pursuant 40 CFR 1501.6, to the extent possible. Other agencies may be invited to become cooperators as they are identified during the scoping process.

The environmental review of this project will be conducted in accordance with the requirements of NEPA, CEQ Regulations (40 CFR parts 1500-1508), other appropriate federal regulations, and the USIBWC procedures for compliance with those regulations. Copies of the PEIS will be transmitted to federal and state agencies and other interested parties for comments and will be filed with the Environmental Protection Agency in accordance with 40 CFR parts 1500-1508 and USIBWC procedures.

The USIBWC anticipates the Draft PEIS will be made available to the public by November 2005.

Dated: November 16, 2004.
Susan E. Daniel,
General Counsel.

[FR Doc. 04-26502 Filed 12-9-04; 8:45 am]

BILLING CODE 4710-03-P